NUCLEAR REGULATORY COMMISSION

[NRC-2009-0117]

Notice of Revised Regulatory Guide

AGENCY: Nuclear Regulatory Commission.

ACTION: Notice of Revised Regulatory Guide (RG) 1.200, Revision 2, “An Approach for Determining the Technical Adequacy of Probabilistic Risk Assessment Results for Risk-Informed Activities.”

FOR FURTHER INFORMATION CONTACT: Mary Drouin, Office of Nuclear Regulatory Research, U.S. Nuclear Regulatory Commission, Washington, DC 20555-0001, telephone (301) 251-7574 or e-mail to Mary.Drouin@nrc.gov.

SUPPLEMENTARY INFORMATION:

I. Introduction

The Nuclear Regulatory Commission (NRC) issued Revision 2 of RG 1.200 on March 17, 2009, which was published in the Federal Register, 74 FR 11381. RG 1.200, Revision 2 is a guide in the agency's “Regulatory Guide” series. This series was developed to describe and make available to the public information such as methods that are acceptable to the NRC staff for implementing specific parts of the agency's regulations, techniques that the staff uses in evaluating specific problems or postulated accidents, and data that the staff needs in its review of applications for permits and licenses.

A sentence was inadvertently omitted from the draft version that was issued for public comment and the final version that was published in March 2009. The current version of Regulatory Guide 1.200 on the NRC Web site includes the omitted sentence at the end of the first paragraph in Regulatory Position C.1.2.5.

II. Further Information

Electronic copies of Regulatory Guide 1.200, Revision 2 are available through the NRC's public Web site under “Regulatory Guides” at http://www.nrc.gov/reading-rm/doc-collections/. In addition, regulatory guides are available for inspection at the NRC's Public Document Room (PDR) located at Room O-1F21, One White Flint North, 11555 Rockville Pike, Rockville, Maryland 20852-2738. The PDR's mailing address is USNRC PDR, Washington, DC 20555-0001. The PDR can also be reached by telephone at (301) 415-4737 or (800) 397-4209, by fax at (301) 415-3548, and by e-mail to pdr.resource@nrc.gov.

Regulatory guides are not copyrighted, and NRC approval is not required to reproduce them.

Dated at Rockville, Maryland, this 2nd day of July 2009.
For the Nuclear Regulatory Commission.
Mark P. Orr,
Acting Chief, Regulatory Guide Development Branch, Division of Engineering, Office of Nuclear Regulatory Research.

[FR Doc. E9-16499 Filed 7-10-09; 8:45 am]

BILLING CODE 7590-01-P